DEPARTMENT OF JUSTICE

National Institute of Corrections

Solicitation for a Cooperative Agreement—Evaluation of Technical Assistance for Evidence-Based Decisionmaking in Local Criminal Justice Systems

AGENCY: National Institute of Corrections, U.S. Department of Justice.

ACTION: Solicitation for a Cooperative Agreement.

SUMMARY: The National Institute of Corrections (NIC) is soliciting proposals to enter into a cooperative agreement for a 20-month project to begin in June 2010. Work under this cooperative agreement will involve documenting the technical assistance (TA) provided to up to six sites selected as grantees under Phase II of the Evidence-Based Decisionmaking in Local Criminal Justice Systems project. The purpose of the evaluation is to assess the quality of the services provided to the sites and to document the degree to which the technical assistance services affected the sites' preparation to implement the Evidence-Based Decisionmaking Framework (the Framework).

DATES: Applications must be received by 4 p.m. EDT on Friday, May 21, 2010.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications (preferred) can be submitted only via http://www.grants.gov.

FOR FURTHER INFORMATION CONTACT: A copy of this announcement and links to the required application forms can be downloaded from the NIC Web site at http://www.nicic.gov. All programmatic questions concerning this announcement should be directed to Lori Eville, Correctional Program Specialist, National Institute of Corrections. She can be reached at 1-800-995-6423, extension 62848 or by e-mail at leville@bop.gov.

SUPPLEMENTARY INFORMATION: Background: In June 2008, the National Institute of Corrections awarded the Center for Effective Public Policy, in partnership with the Pretrial Justice Institute, the Justice Management Institute, and The Carey Group, a cooperative agreement to address evidence-Based decisionmaking in local criminal justice systems. The goal of the initiative is to build a systemwide framework that will result in more collaborative, evidence-based decisionmaking in local criminal justice systems. The initiative is grounded in the accumulated knowledge of two decades of research on the factors that contribute to criminal re-offending and the processes and methods the justice system can employ to interrupt the cycle of re-offense. The effort seeks to equip criminal justice policymakers in local communities with the information, processes, and tools that will result in a measurable reduction of pretrial misconduct and postconviction re-offending.

The principle product of the initial 18-month phase of the initiative is A Framework for Evidence-Based Decisionmaking in Local Criminal Justice Systems (the Framework), which is designed to advance constructive change in local level criminal justice decisionmaking. The Framework describes key criminal justice decisions, evidence-based knowledge about effective justice practices, and practical local level strategies for applying risk and harm reduction principles and techniques. A copy of the Evidence-Based Decisionmaking Framework document can be downloaded online at http://www.cepp.com/ebdm.

A key component of the Framework is the Evidence-Based Decisionmaking Logic Model, which represents the theory underlying the Framework. The logic model addresses the implementation of the Framework at the “system” level of the criminal justice system. It is built upon the four principles underlying the Framework and outlines the logical flow of both the processes and activities involved in its implementation. The logic model also demonstrates the expected harm reduction impacts that will result from these processes and activities. The logic model is located on page 31 of the Framework document.

Scope of Work: NIC will work with a technical assistance provider under Phase II of the project, under a separate cooperative agreement. The technical assistance is intended to lead to the following outcomes: (1) The establishment of collaborative partnerships among local criminal justice stakeholders, (2) The development of a shared philosophy and vision for the local criminal justice system, (3) The capacity to collect and analyze data, including the quality of the data, to support the implementation of the Framework and to support ongoing analysis of the effectiveness of current and future policies, practices, and services designed to achieve specific risk and harm reduction outcomes, (4) Change in knowledge, skills, and abilities regarding research-based risk reduction strategies, and (5) The development of jurisdiction-specific tools to assist in the implementation of evidence-based decisionmaking at the system, agency, and case levels.

NIC anticipates that these outcomes will be further articulated during Phase II as each site adapts the logic model to meet their specific needs, but the goals listed above should guide applicants in addressing how they will perform the project's five tasks.

Project Goals and Tasks: The goal of this cooperative agreement is to assess the quality of services provided to the sites selected as grantees under Phase II of the Evidence-Based Decisionmaking in Local Criminal Justice Systems project. The assistance provided to these sites is expected to increase their capacity for implementing the Framework. The project should include an examination of how the assistance provided affected implementation readiness at the system and agency level. The recipient of the award under this cooperative agreement will undertake the following tasks: Develop and submit a final evaluation plan that describes the evaluation methodology, qualitative and quantitative data to be collected, data collection tools, and the analysis plan; Develop data collection instruments to include site visit protocols, structured or semi-structured interview guides, and data reporting forms to measure the following: Types and amount of training, coaching, and technical assistance requested and received; Number of persons trained; Nature of coaching of key leaders and local project managers; Satisfaction with the quality of the assistance received (did the technical assistance anticipate needs of the system and agencies?); Changes in knowledge, skills and abilities regarding research-based risk reduction strategies; Actions taken as a result of the training and technical assistance which may include the establishment of collaborative partnerships, development of a shared philosophy and vision for the local criminal justice system, changes in data collection and reporting, and the development of tools to assist in the implementation of evidence-based decisionmaking; Changes and outcomes observed as a result of the training and technical assistance; Collect data from the sites through a minimum of one site visit to each site; Attend a project kickoff meeting with the sites and the TA provider, and conduct periodic meetings with the TA provider; Prepare and submit a final evaluation report to NIC that provides the results of the analysis and includes detailed descriptions of the assistance and training received by the sites, the dosage of the assistance in terms of frequency and duration, and the degree to which the assistance leads to the intended outcomes.

Required Expertise: Successful applicants will be able to demonstrate that they have the organizational capacity to carry out the tasks of the project, including experience conducting qualitative and quantitative program and technical assistance evaluation, extensive experience in correctional and criminal justice policy and practice, and a strong background in criminal justice system-wide change initiatives. Preference will be given to applicants with experience evaluating initiatives that focus on system-wide change and with experience in the implementation of evidence-based practices in the criminal justice system.

Application Requirements: Applications should be concisely written, typed double spaced and reference the “NIC Opportunity Number” and Title provided in this announcement. Please limit the program narrative text to 20 double spaced, numbered pages. Resumes, summaries of experience, or attachments will not be included in the 20-page limit. The package must include a cover letter that identifies the audit agency responsible for the applicant's financial accounts as well as the audit period or fiscal year that the applicant operates under (e.g., July 1 through June 30); a program narrative in response to the statement of work; a budget narrative explaining projected costs; and a description of the qualifications of the applicant. The following forms must also be included: OMB Standard Form 424, Application for Federal Assistance; OMB Standard Form 424A, Budget Information—Non Construction Programs; OMB Standard Form 424B, Assurances—Non Construction Programs (these forms are available at http://www.grants.gov) and DOJ/NIC Certification Regarding Lobbying; Debarment, Suspension, and Other Responsibility Matters; and Drug-Free Workplace Requirements (available at http://www.nicic.org/Downloads/PDF/cerif-frm.pdf).

Authority: Public Law 93-415.

Funds Available: NIC is seeking the applicant's best ideas regarding accomplishment of the scope of work and the related costs for achieving the goals of this solicitation. Funds may be used only for the activities that are linked to the desired outcome of the project. Budgets will be evaluated against the value of the products and services proposed in the application.

This project will be a collaborative venture with the NIC Community Corrections Division.

Eligibility of Applicants: An eligible applicant is any public or private agency, educational institution, organization, individual, or team with expertise in the described areas.

Review Considerations: Applications received under this announcement will be subject to the NIC Review Process. The criteria for evaluation of each application will be as follows:

Program Narrative (50%)

Are all of the tasks adequately discussed and is there a clear statement of how each of the tasks will be accomplished, including the staffing, resources, and strategies to be employed? Are there any innovative approaches, techniques, or design aspects proposed that will enhance the project? Is the methodology proposed rigorous with an appropriate analysis plan?

Organizational Capabilities (25%)

Do the skills, knowledge, and expertise of the applicant(s) and the proposed project staff demonstrate a high level of competency to carry out the tasks? Does the applicant have the necessary experience and organizational capacity to carry out the goals of the project?

Program Management/Administration (25%)

Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 10C84. This number should appear as a reference line in the cover letter, where indicated on Standard Form 424, and outside of the envelope in which the application is sent.

Catalog of Federal Domestic Assistance Number: 16.602.

Executive Order 12372: This program is not subject to the provisions of Executive Order 12372.

Morris L. Thigpen,
Director, National Institute of Corrections.

[FR Doc. 2010-9448 Filed 4-22-10; 8:45 am]

BILLING CODE 4410-36-P